DEPARTMENT OF HEALTH AND HUMAN SERVICES

Health Care Financing Administration

[HCFA-1135-N]

[RIN 0938-AK13]

Medicare Program; Hospice Wage Index

AGENCY: Health Care Financing Administration (HCFA), HHS.

ACTION: Notice.

SUMMARY: This notice announces the annual update to the hospice wage index as required by statute. This update is effective October 1, 2000 through September 30, 2001. The wage index is used to reflect local differences in wage levels. The hospice wage index methodology and values are based on recommendations of a negotiated rulemaking advisory committee and were originally published in the Federal Register on August 8, 1997.

EFFECTIVE DATE: This notice is effective on October 1, 2000.

FOR FURTHER INFORMATION CONTACT: Carol Blackford, (410) 786-5909.

SUPPLEMENTARY INFORMATION:

I. Background

A. Statute and Regulations

Hospice Care is an approach to treatment that recognizes that the impending death of an individual warrants a change in the focus from curative care to palliative care (relief of pain and other uncomfortable symptoms). The goal of hospice care is to help terminally ill individuals continue life with minimal disruption to normal activities while remaining primarily in the home environment. A hospice uses an interdisciplinary approach to deliver medical, social, psychological, emotional, and spiritual services through use of a broad spectrum of professional and other caregivers, with the goal of making the individual as physically and emotionally comfortable as possible. Counseling and respite services are available to the family of the hospice patient. Hospice programs consider both the patient and the family as a unit of care.

Section 1861(dd) of the Social Security Act (the Act) provides for coverage of hospice care for terminally ill Medicare beneficiaries who elect to receive care from a participating hospice. The statutory authority for payment to hospices participating in the Medicare program is contained in section 1814(i) of the Act.

Our existing regulations under 42 CFR part 418 (issued on December 16, 1983, effective for hospice services furnished on or after November 1, 1983) establish eligibility requirements and payment standards and procedures, define covered services, and delineate the conditions a hospice must meet to be approved for participation in the Medicare program. Subpart G of Part 418 provides for payment to hospices based on one of four prospectively determined rates for each day in which a qualified Medicare beneficiary is under the care of a hospice. The four rate categories are routine home care, continuous home care, inpatient respite care, and general inpatient care. Payment rates are established for each category.

The regulations at § 418.306(c), which require the rates to be adjusted by a wage index, were revised in the August 8, 1997 final rule (62 FR 42860). This rule implemented a new methodology for calculating the hospice wage index based on the recommendations of a negotiated rulemaking committee. The committee reached consensus on the methodology. We included the resulting committee statement, describing that consensus, as an appendix to the August 8, 1997 final rule (62 FR 42883). The provisions of the final hospice wage index rule are as follows:

• The revised hospice wage index will be calculated using the most current available hospital wage data.

• The revised hospice wage index was phased in over a 3-year transition period. For the first year of the transition period, October 1, 1997 through September 30, 1998, a blended index was calculated by adding two-thirds of the 1983 index value for an area to one-third of the revised wage index value for that area. During the second year of the transition period, October 1, 1998 through September 30, 1999, the calculation was similar, except that the blend was one-third of the 1983 index value and two-thirds of the revised wage index value for that area. We fully implemented the revised wage index during the third transition period, October 1, 1999 through September 30, 2000.

• All hospice wage index values of 0.8 or greater are subject to a budget-neutrality adjustment to ensure that we do not pay more in the aggregate than we would have paid under the original wage index. The budget-neutrality adjustment is calculated by multiplying the hospice wage index for a given area by the budget-neutrality adjustment factor. The budget-neutrality adjustment is to be applied annually, both during and after the transition period.

• All hospice wage index values below 0.8 receive the greater of the following adjustments: the wage index floor, a 15-percent increase, subject to a maximum wage index value of 0.8; or, the budget-neutrality adjustment.

• The wage index is to be updated annually, in the Federal Register, based on the most current available hospital wage data. These data will include any changes to the definitions of Metropolitan Statistical Areas (MSA).

Section 4441(a) of the Balanced Budget Act of 1997 (BBA) amended section 1814(i)(1)(C)(ii) of the Act to establish updates to hospice rates for fiscal years (FYs) 1998 through 2002. Hospice rates were to be updated by a factor equal to the market basket index, minus 1 percentage point. However, section 131(a) of the Balanced Budget Refinement Act of 1999 (BBRA) changed the payment rates for FYs 2001 and 2002 by increasing the FY 2001 rate by 0.5 percent and the FY 2002 rate by 0.75 percent. Section 131(b) of the BBRA states that any additional payments made under section 131(a) of the BBRA shall not be included in updating the hospice rates after those 2 years.

B. Update to the Hospice Wage Index

This annual update is effective October 1, 2000 through September 30, 2001. In accordance with the agreement signed by the Health Care Financing Administration (HCFA) and all other members of the Hospice Wage Index Negotiated Rulemaking Committee, we are using the most current HCFA hospital data available, including any changes to the definitions of MSAs. The FY 2000 hospital wage index was the most current hospital wage data available when the FY 2001 wage index values were calculated. We used the pre-reclassified and pre-floor hospital area wage index data.

All wage index values are adjusted by a budget-neutrality factor of 1.065425 and are subject to the wage index floor adjustment, if applicable. We have completed all of the calculations described above and included them in the wage index values reflected in both Tables A and B below. A detailed description of the method used to compute the hospice wage index is contained in both the September 4, 1996 proposed rule (61 FR 46579) and the August 8, 1997 final rule (62 FR 42860).

After the publication of the FY 2000 hospice wage index updates, we received a number of questions about the methodology used to calculate the hospice wage indices. We would like to take this opportunity to further explain the methodology used in determining the hospice wage indices.

1. Metropolitan Statistical Areas

As explained in the September 4, 1996 hospice wage index proposed rule, each hospice=s labor market area would be established by the MSA definitions issued by the Office of Management and Budget (OMB) on December 28, 1992 based on the 1990 census, and updated periodically by OMB. Any changes to the MSA definitions would be effective annually and announced in the final rule updating the hospice wage index.

2. MSA Wage Index Values Lower Than Rural Values

As explained above, any area not included in an MSA is considered to be nonurban and receives the statewide rural rate. We are aware that in the past, a number of MSAs have had wage index values that were lower than their rural statewide value. This difference is due to variations in local wage data as compared to national wage data. The hospice wage index is computed by dividing the hourly wage rate for an MSA or nonurban area by a national hourly wage rate. Nonurban areas could receive a higher wage index value than urban areas in the same state if the hourly wage rate in the nonurban area increased at a greater rate.

C. Tables

Table A.—Hospice Wage Index for Urban Areas
MSA code No. | Urban area (constituent counties or county equivalents) ¹ | Wage index ²
0040 | Abilene, TX | 0.8715
| Taylor, TX |
0060 | Aguadilla, PR | 0.4386
| Aguada, PR |
| Aguadilla, PR |
| Moca, PR |
0080 | Akron, OH | 1.0829
| Portage, OH |
| Summit, OH |
0120 | Albany, GA | 1.1052
| Dougherty, GA |
| Lee, GA |
0160 | Albany-Schenectady-Troy, NY | 0.9328
| Albany, NY |
| Montgomery, NY |
| Rensselaer, NY |
| Saratoga, NY |
| Schenectady, NY |
| Schoharie, NY |
0200 | Albuquerque, NM | 0.9056
| Bernalillo, NM |
| Sandoval, NM |
| Valencia, NM |
0220 | Alexandria, LA | 0.8385
| Rapides, LA |
0240 | Allentown-Bethlehem-Easton, PA | 1.0897
| Carbon, PA |
| Lehigh, PA |
| Northampton, PA |
0280 | Altoona, PA | 0.9954
| Blair, PA |
0320 | Amarillo, TX | 0.8929
| Potter, TX |
| Randall, TX |
0380 | Anchorage, AK | 1.3701
| Anchorage, AK |
0440 | Ann Arbor, MI | 1.2235
| Lenawee, MI |
| Livingston, MI |
| Washtenaw, MI |
0450 | Anniston, AL | 0.9017
| Calhoun, AL |
0460 | Appleton-Oshkosh-Neenah, WI | 0.9496
| Calumet, WI |
| Outagamie, WI |
| Winnebago, WI |
0470 | Arecibo, PR | 0.5537
| Arecibo, PR |
| Camuy, PR |
| Hatillo, PR |
0480 | Asheville, NC | 0.9466
| Buncombe, NC |
| Madison, NC |
0500 | Athens, GA | 1.0340
| Clarke, GA |
| Madison, GA |
| Oconee, GA |
0520 | Atlanta, GA | 1.0709
| Barrow, GA |
| Bartow, GA |
| Carroll, GA |
| Cherokee, GA |
| Clayton, GA |
| Cobb, GA |
| Coweta, GA |
| DeKalb, GA |
| Douglas, GA |
| Fayette, GA |
| Forsyth, GA |
| Fulton, GA |
| Gwinnett, GA |
| Henry, GA |
| Newton, GA |
| Paulding, GA |
| Pickens, GA |
| Rockdale, GA |
| Spalding, GA |
| Walton, GA |
0560 | Atlantic-Cape May, NJ | 1.2051
| Atlantic, NJ |
| Cape May, NJ |
0580 | Aubrn-Opelika, AL | 0.8256
| Lee, AL |
0600 | Augusta-Aiken, GA-SC | 0.9603
| Columbia, GA |
| McDuffie, GA |
| Richmond, GA |
| Aiken, SC |
| Edgefield, SC |
0640 | Austin-San Marcos, TX | 0.9676
| Bastrop, TX |
| Caldwell, TX |
| Hays, TX |
| Travis, TX |
| Williamson, TX |
0680 | Bakersfield, CA | 1.0248
| Kern, CA |
0720 | Baltimore, MD | 1.0539
| Anne Arundel, MD |
| Baltimore, MD |
| Baltimore City, MD |
| Carroll, MD |
| Harford, MD |
| Howard, MD |
| Queen Anne's, MD |
0733 | Bangor, ME | 1.0239
| Penobscot, ME |
0743 | Barnstable-Yarmouth, MA | 1.4173
| Barnstable, MA |
0760 | Baton Rouge, LA | 0.9278
| Ascension, LA |
| East Baton Rouge, LA |
| Livingston, LA |
| West Baton Rouge, LA |
0840 | Beaumont-Port Arthur, TX | 0.9129
| Hardin, TX |
| Jefferson, TX |
| Orange, TX |
0860 | Bellingham, WA | 1.2141
| Whatcom, WA |
0870 | Benton Harbor, MI | 0.9011
| Berrien, MI |
0875 | Bergen-Passaic, NJ | 1.2816
| Bergen, NJ |
| Passaic, NJ |
0880 | Billings, MT | 1.0696
| Yellowstone, MT |
0920 | Biloxi-Gulfport-Pascagoula, MS | 0.8383
| Hancock, MS |
| Harrison, MS |
| Jackson, MS |
0960 | Binghamton, NY | 0.9324
| Broome, NY |
| Tioga, NY |
1000 | Birmingham, AL | 0.9584
| Blount, AL |
| Jefferson, AL |
| St. Clair, AL |
| Shelby, AL |
1010 | Bismarck, ND | 0.8267
| Burleigh, ND |
| Morton, ND |
1020 | Bloomington, IN | 0.9155
| Monroe, IN |
1040 | Bloomington-Normal, IL | 0.9582
| McLean, IL |
1080 | Boise City, ID | 0.9654
| Ada, ID |
| Canyon, ID |
1123 | Boston-Worcester-Lawrence-Lowell-Brockton, MA-NH | 1.2102
| Bristol, MA |
| Essex, MA |
| Middlesex, MA |
| Norfolk, MA |
| Plymouth, MA |
| Suffolk, MA |
| Worcester, MA |
| Hillsborough, NH |
| Merrimack, NH |
| Rockingham, NH |
| Strafford, NH |
1125 | Boulder-Longmont, CO | 1.0596
| Boulder, CO |
1145 | Brazoria, TX | 0.9074
| Brazoria, TX |
1150 | Bremerton, WA | 1.1733
| Kitsap, WA |
1240 | Brownsville-Harlingen-San Benito, TX | 0.9816
| Cameron, TX |
1260 | Bryan-College Station, TX | 0.9057
| Brazos, TX |
1280 | Buffalo-Niagara Falls, NY | 1.0233
| Erie, NY |
| Niagara, NY |
1303 | Burlington, VT | 1.1250
| Chittenden, VT |
| Franklin, VT |
| Grand Isle, VT |
1310 | Caguas, PR | 0.5245
| Caguas, PR |
| Cayey, PR |
| Cidra, PR |
| Gurabo, PR |
| San Lorenzo, PR |
1320 | Canton-Massillon, OH | 0.9346
| Carroll, OH |
| Stark, OH |
1350 | Casper, WY | 0.9802
| Natrona, WY |
1360 | Cedar Rapids, IA | 0.9609
| Linn, IA |
1400 | Champaign-Urbana, IL | 0.9764
| Champaign, IL |
1440 | Charleston-North Charleston, SC | 0.9577
| Berkeley, SC |
| Charleston, SC |
| Dorchester, SC |
1480 | Charleston, WV | 0.9691
| Kanawha, WV |
| Putnam, WV |
1520 | Charlotte-Gastonia-Rock Hill, NC-SC | 1.0051
| Cabarrus, NC |
| Gaston, NC |
| Lincoln, NC |
| Mecklenburg, NC |
| Rowan, NC |
| Stanly, NC |
| Union, NC |
| York, SC |
1540 | Charlottesville, VA | 1.1267
| Albemarle, VA |
| Charlottesville City, VA |
| Fluvanna, VA |
| Greene, VA |
1560 | Chattanooga, TN-GA | 1.0369
| Catoosa, GA |
| Dade, GA |
| Walker, GA |
| Hamilton, TN |
| Marion, TN |
1580 | Cheyenne, WY | 0.8711
| Laramie, WY |
1600 | Chicago, IL | 1.1585
| Cook, IL |
| DeKalb, IL |
| Du Page, IL |
| Grundy, IL |
| Kane, IL |
| Kendall, IL |
| Lake, IL |
| McHenry, IL |
| Will, IL |
1620 | Chico-Paradise, CA | 1.1071
| Butte, CA |
1640 | Cincinnati, OH-KY-IN | 1.0035
| Brown, OH |
| Clermont, OH |
| Hamilton, OH |
| Warren, OH |
| Boone, KY |
| Campbell, KY |
| Gallatin, KY |
| Grant, KY |
| Kenton, KY |
| Pendleton, KY |
| Dearborn, IN |
| Ohio, IN |
1660 | Clarksville-Hopkinsville, TN-KY | 0.8619
| Christian, KY |
| Montgomery, TN |
1680 | Cleveland-Lorain-Elyria, OH | 1.0323
| Ashtabula, OH |
| Cuyahoga, OH |
| Geauga, OH |
| Lake, OH |
| Lorain, OH |
| Medina, OH |
1720 | Colorado Springs, CO | 0.9821
| El Paso, CO |
1740 | Columbia, MO | 0.9488
| Boone, MO |
1760 | Columbia, SC | 0.9970
| Lexington, SC |
| Richland, SC |
1800 | Columbus, GA-AL | 0.9068
| Chattahochee, GA |
| Harris, GA |
| Muscogee, GA |
| Russell, AL |
1840 | Columbus, OH | 1.0556
| Delaware, OH |
| Fairfield, OH |
| Franklin, OH |
| Licking, OH |
| Madison, OH |
| Pickaway, OH |
1880 | Corpus Christi, TX | 0.9271
| Nueces, TX |
| San Patricio, TX |
1890 | Corvallis, Oregon | 1.1813
| Benton, OR |
1900 | Cumberland, MD-WV | 0.9378
| Allegany, MD |
| Mineral, WV |
1920 | Dallas, TX | 1.0236
| Collin, TX |
| Dallas, TX |
| Denton, TX |
| Ellis, TX |
| Henderson, TX |
| Hunt, TX |
| Kaufman, TX |
| Rockwall, TX |
1950 | Danville, VA | 0.9277
| Danville City, VA |
| Pittsylvania, VA |
1960 | Davenport-Moline-Rock Island, IA-IL | 1.0080
| Scott, IA |
| Henry, IL |
| Rock Island, IL |
2000 | Dayton-Springfield, OH | 0.9576
| Clark, OH |
| Greene, OH |
| Miami, OH |
| Montgomery, OH |
2020 | Daytona Beach, FL | 0.9248
| Flagler, FL |
| Volusia, FL |
2030 | Decatur, AL | 0.9248
| Lawrence, AL |
| Morgan, AL |
2040 | Decatur, IL | 0.8867
| Macon, IL |
2080 | Denver, CO | 1.0857
| Adams, CO |
| Arapahoe, CO |
| Denver, CO |
| Douglas, CO |
| Jefferson, CO |
2120 | Des Moines, IA | 0.9328
| Dallas, IA |
| Polk, IA |
| Warren, IA |
2160 | Detroit, MI | 1.1104
| Lapeer, MI |
| Macomb, MI |
| Monroe, MI |
| Oakland, MI |
| St. Clair, MI |
| Wayne, MI |
2180 | Dothan, AL | 0.8309
| Dale, AL |
| Houston, AL |
2190 | Dover, DE | 0.9947
| Kent, DE |
2200 | Dubuque, IA | 0.9079
| Dubuque, IA |
2240 | Duluth-Superior, MN-WI | 1.0831
| St. Louis, MN |
| Douglas, WI |
2281 | Dutchess County, NY | 1.1243
| Dutchess, NY |
2290 | Eau Claire, WI | 0.9544
| Chippewa, WI |
| Eau Claire, WI |
2320 | El Paso, TX | 0.9533
| El Paso, TX |
2330 | Elkhart-Goshen, IN | 0.9994
| Elkhart, IN |
2335 | Elmira, NY | 0.9092
| Chemung, NY |
2340 | Enid, OK | 0.8474
| Garfield, OK |
2360 | Erie, PA | 0.9614
| Erie, PA |
2400 | Eugene-Springfield, OR | 1.1298
| Lane, OR |
2440 | Evansville-Henderson, IN-KY | 0.8847
| Posey, IN |
| Vanderburgh, IN |
| Warrick, IN |
| Henderson, KY |
2520 | Fargo-Moorhead, ND-MN | 0.9185
| Clay, MN |
| Cass, ND |
2560 | Fayetteville, NC | 0.9051
| Cumberland, NC |
2580 | Fayetteville-Springdale-Rogers, AR | 0.8283
| Benton, AR |
| Washington, AR |
2620 | Flagstaff, AZ-UT | 1.1026
| Coconino, AZ |
| Kane, UT |
2640 | Flint, MI | 1.1742
| Genesee, MI |
2650 | Florence, AL | 0.8447
| Colbert, AL |
| Lauderdale, AL |
2655 | Florence, SC | 0.9183
| Florence, SC |
2670 | Fort Collins-Loveland, CO | 1.0977
| Larimer, CO |
2680 | Ft. Lauderdale, FL | 1.0839
| Broward, FL |
2700 | Fort Myers-Cape Coral, FL | 0.9537
| Lee, FL |
2710 | Fort Pierce-Port St. Lucie, FL | 1.0653
| Martin, FL |
| St. Lucie, FL |
2720 | Fort Smith, AR-OK | 0.8357
| Crawford, AR |
| Sebastian, AR |
| Sequoyah, OK |
2750 | Fort Walton Beach, FL | 0.9284
| Okaloosa, FL |
2760 | Fort Wayne, IN | 0.9692
| Adams, IN |
| Allen, IN |
| De Kalb, IN |
| Huntington, IN |
| Wells, IN |
| Whitley, IN |
2800 | Fort Worth-Arlington, TX | 1.0480
| Hood, TX |
| Johnson, TX |
| Parker, TX |
| Tarrant, TX |
2840 | Fresno, CA | 1.0935
| Fresno, CA |
| Madera, CA |
2880 | Gadsden, AL | 0.9258
| Etowah, AL |
2900 | Gainesville, FL | 1.0764
| Alachua, FL |
2920 | Galveston-Texas City, TX | 1.0370
| Galveston, TX |
2960 | Gary, IN | 1.0005
| Lake, IN |
| Porter, IN |
2975 | Glens Falls, NY | 0.9170
| Warren, NY |
| Washington, NY |
2980 | Goldsboro, NC | 0.8879
| Wayne, NC |
2985 | Grand Forks, ND-MN | 0.9693
| Grand Forks, ND |
| Polk, MN |
2995 | Grand Junction, CO | 0.9790
| Mesa, CO |
3000 | Grand Rapids-Muskegon-Holland, MI | 1.0799
| Allegan, MI |
| Kent, MI |
| Muskegon, MI |
| Ottawa, MI |
3040 | Great Falls, MT | 1.1144
| Cascade, MT |
3060 | Greeley, CO | 1.0359
| Weld, CO |
3080 | Green Bay, WI | 0.9731
| Brown, WI |
3120 | Greensboro-Winston-Salem-High Point, NC | 0.9629
| Alamance, NC |
| Davidson, NC |
| Davie, NC |
| Forsyth, NC |
| Guilford, NC |
| Randolph, NC |
| Stokes, NC |
| Yadkin, NC |
3150 | Greenville, NC | 1.0123
| Pitt, NC |
3160 | Greenville-Spartanburg-Anderson, SC | 0.9790
| Anderson, SC |
| Cherokee, SC |
| Greenville, SC |
| Pickens, SC |
| Spartanburg, SC |
3180 | Hagerstown, MD | 0.9422
| Washington, MD |
3200 | Hamilton-Middletown, OH | 0.9532
| Butler, OH |
3240 | Harrisburg-Lebanon-Carlisle, PA | 1.0567
| Cumberland, PA |
| Dauphin, PA |
| Lebanon, PA |
| Perry, PA |
3283 | Hartford, CT | 1.2483
| Hartford, CT |
| Litchfield, CT |
| Middlesex, CT |
| Tolland, CT |
3285 | Hattiesburg, MS | 0.8134
| Forrest, MS |
| Lamar, MS |
3290 | Hickory-Morganton-Lenoir, NC | 0.9709
| Alexander, NC |
| Burke, NC |
| Caldwell, NC |
| Catawba, NC |
3320 | Honolulu, HI | 1.2228
| Honolulu, HI |
3350 | Houma, LA | 0.8350
| Lafourche, LA |
| Terrebonne, LA |
3360 | Houston, TX | 1.0002
| Chambers, TX |
| Fort Bend, TX |
| Harris, TX |
| Liberty, TX |
| Montgomery, TX |
| Waller, TX |
3400 | Huntington-Ashland, WV-KY-OH | 1.0396
| Boyd, KY |
| Carter, KY |
| Greenup, KY |
| Lawrence, OH |
| Cabell, WV |
| Wayne, WV |
3440 | Huntsville, AL | 0.9400
| Limestone, AL |
| Madison, AL |
3480 | Indianapolis, IN | 1.0434
| Boone, IN |
| Hamilton, IN |
| Hancock, IN |
| Hendricks, IN |
| Johnson, IN |
| Madison, IN |
| Marion, IN |
| Morgan, IN |
| Shelby, IN |
3500 | Iowa City, IA | 1.0237
| Johnson, IA |
3520 | Jackson, MI | 0.9419
| Jackson, MI |
3560 | Jackson, MS | 0.8936
| Hinds, MS |
| Madison, MS |
| Rankin, MS |
3580 | Jackson, TN | 0.9164
| Madison, TN |
| Chester, TN |
3600 | Jacksonville, FL | 0.9544
| Clay, FL |
| Duval, FL |
| Nassau, FL |
| St. Johns, FL |
3605 | Jacksonville, NC | 0.8367
| Onslow, NC |
3610 | Jamestown, NY | 0.8372
| Chautauqua, NY |
3620 | Janesville-Beloit, WI | 1.0289
| Rock, WI |
3640 | Jersey City, NJ | 1.2440
| Hudson, NJ |
3660 | Johnson City-Kingsport-Bristol, TN-VA | 0.9433
| Carter, TN |
| Hawkins, TN |
| Sullivan, TN |
| Unicoi, TN |
| Washington, TN |
| Bristol City, VA |
| Scott, VA |
| Washington, VA |
3680 | Johnstown, PA | 0.9206
| Cambria, PA |
| Somerset, PA |
3700 | Jonesboro, AR | 0.8000
| Craighead, AR |
3710 | Joplin, MO | 0.8181
| Jasper, MO |
| Newton, MO |
3720 | Kalamazoo-Battlecreek, MI | 1.0635
| Calhoun, MI |
| Kalamazoo, MI |
| Van Buren, MI |
3740 | Kankakee, IL | 0.9162
| Kankakee, IL |
3760 | Kansas City, KS-MO | 0.9932
| Johnson, KS |
| Leavenworth, KS |
| Miami, KS |
| Wyandotte, KS |
| Cass, MO |
| Clay, MO |
| Clinton, MO |
| Jackson, MO |
| Lafayette, MO |
| Platte, MO |
| Ray, MO |
3800 | Kenosha, WI | 0.9625
| Kenosha, WI |
3810 | Killeen-Temple, TX | 1.0583
| Bell, TX |
| Coryell, TX |
3840 | Knoxville, TN | 0.9802
| Anderson, TN |
| Blount, TN |
| Knox, TN |
| Loudon, TN |
| Sevier, TN |
| Union, TN |
3850 | Kokomo, IN | 0.9503
| Howard, IN |
| Tipton, IN |
3870 | La Crosse, WI-MN | 0.9519
| Houston, MN |
| La Crosse, WI |
3880 | Lafayette, LA | 0.8886
| Acadia, LA |
| Lafayette, LA |
| St. Landry, LA |
| St. Martin, LA |
3920 | Lafayette, IN | 0.9386
| Clinton, IN |
| Tippecanoe, IN |
3960 | Lake Charles, LA | 0.8488
| Calcasieu, LA |
3980 | Lakeland-Winter Haven, FL | 0.9393
| Polk, FL |
4000 | Lancaster, PA | 0.9862
| Lancaster, PA |
4040 | Lansing-East Lansing, MI | 1.0631
| Clinton, MI |
| Eaton, MI |
| Ingham, MI |
4080 | Laredo, TX | 0.8868
| Webb, TX |
4100 | Las Cruces, NM | 0.9153
| Dona Ana, NM |
4120 | Las Vegas, NV-AZ | 1.1996
| Mohave, AZ |
| Clarke, NV |
| Nye, NV |
4150 | Lawrence, KS | 0.8761
| Douglas, KS |
4200 | Lawton, OK | 1.0157
| Comanche, OK |
4243 | Lewiston-Auburn, ME | 0.9482
| Androscoggin, ME |
4280 | Lexington, KY | 0.9090
| Bourbon, KY |
| Clark, KY |
| Fayette, KY |
| Jessamine, KY |
| Madison, KY |
| Scott, KY |
| Woodford, KY |
4320 | Lima, OH | 0.9489
| Allen, OH |
| Auglaize, OH |
4360 | Lincoln, NE | 1.0304
| Lancaster, NE |
4400 | Little Rock-North Little Rock, AR | 0.9179
| Faulkner, AR |
| Lonoke, AR |
| Pulaski, AR |
| Saline, AR |
4420 | Longview-Marshall, TX | 0.9311
| Gregg, TX |
| Harrison, TX |
| Upshur, TX |
4480 | Los Angeles-Long Beach, CA | 1.2841
| Los Angeles, CA |
4520 | Louisville, KY-IN | 0.9996
| Clark, IN |
| Floyd, IN |
| Harrison, IN |
| Scott, IN |
| Bullitt, KY |
| Jefferson, KY |
| Oldham, KY |
4600 | Lubbock, TX | 0.8962
| Lubbock, TX |
4640 | Lynchburg, VA | 0.9392
| Amherst, VA |
| Bedford, VA |
| Bedford City, VA |
| Campbell, VA |
| Lynchburg City, VA |
4680 | Macon, GA | 0.9089
| Bibb, GA |
| Houston, GA |
| Jones, GA |
| Peach, GA |
| Twiggs, GA |
4720 | Madison, WI | 1.0367
| Dane, WI |
4800 | Mansfield, OH | 0.9031
| Crawford, OH |
| Richland, OH |
4840 | Mayaguez, PR | 0.5376
| Anasco, PR |
| Cabo Rojo, PR |
| Hormigueros, PR |
| Mayaguez, PR |
| Sabana Grande, PR |
| San German, PR |
4880 | McAllen-Edinburg-Mission, TX | 0.8652
| Hidalgo, TX |
4890 | Medford-Ashland, OR | 1.1180
| Jackson, OR |
4900 | Melbourne-Titusville-Palm Bay, FL | 0.9905
| Brevard, Fl |
4920 | Memphis, TN-AR-MS | 0.8784
| Crittenden, AR |
| DeSoto, MS |
| Fayette, TN |
| Shelby, TN |
| Tipton, TN |
4940 | Merced, CA | 1.0950
| Merced, CA |
5000 | Miami, FL | 1.0904
| Dade, FL |
5015 | Middlesex-Somerset-Hunterdon, NJ | 1.1851
| Hunterdon, NJ |
| Middlesex, NJ |
| Somerset, NJ |
5080 | Milwaukee-Waukesha, WI | 1.0490
| Milwaukee, WI |
| Ozaukee, WI |
| Washington, WI |
| Waukesha, WI |
5120 | Minneapolis-St. Paul, MN-WI | 1.1645
| Anoka, MN |
| Carver, MN |
| Chisago, MN Dakota, MN |
| Hennepin, MN |
| Isanti, MN |
| Ramsey, MN |
| Scott, MN |
| Sherbune, MN |
| Washington, MN |
| Wright, MN |
| Pierce, WI |
| St. Croix, WI |
5140 | Missoula, MT | 0.9681
| Missoula, MT |
5160 | Mobile, AL | 0.8809
| Baldwin, AL |
| Mobile, AL |
5170 | Modesto, CA | 1.0774
| Stanislaus, CA |
5190 | Monmouth-Ocean, NJ | 1.1996
| Monmouth, NJ |
| Ocean, NJ |
5200 | Monroe, LA | 0.8760
| Ouachita, LA |
5240 | Montgomery, AL | 0.8208
| Autauga, AL |
| Elmore, AL |
| Montgomery, AL |
5280 | Muncie, IN | 1.1544
| Delaware, IN |
5330 | Myrtle Beach, SC | 0.9088
| Horry, SC |
5345 | Naples, FL | 1.0484
| Collier, FL |
5360 | Nashville, TN | 1.0068
| Cheatham, TN |
| Davidson, TN |
| Dickson, TN |
| Robertson, TN |
| Rutherford TN |
| Sumner, TN |
| Williamson, TN |
| Wilson, TN |
5380 | Nassau-Suffolk, NY | 1.4997
| Nassau, NY |
| Suffolk, NY |
5483 | New Haven-Bridgeport-Stamford-Waterbury-Danbury, CT | 1.3166
| Fairfield, CT |
| New Haven, CT |
5523 | New London-Norwich, CT | 1.3242
| New London, CT |
5560 | New Orleans, LA | 0.9685
| Jefferson, LA |
| Orleans, LA |
| Plaquemines, LA |
| St. Bernard, LA |
| St. Charles, LA |
| St. James, LA |
| St. John The Baptist, LA |
| St. Tammany, LA |
5600 | New York, NY | 1.5469
| Bronx, NY |
| Kings, NY |
| New York, NY |
| Putnam, NY |
| Queens, NY |
| Richmond, NY |
| Rockland, NY |
| Westchester, NY |
5640 | Newark, NJ | 1.2409
| Essex, NJ |
| Morris, NJ |
| Sussex, NJ |
| Union, NJ |
| Warren, NJ |
5660 | Newburgh, NY-PA | 1.1624
| Orange, NY |
| Pike, PA |
5720 | Norfolk-Virginia Beach-Newport News, VA-NC | 0.8993
| Currituck, NC |
| Chesapeake City, VA |
| Gloucester, VA |
| Hampton City, VA |
| James City, VA |
| Isle of Wight, VA |
| Mathews, VA |
| Newport News City, VA |
| Norfolk City, VA |
| Poquoson City, VA |
| Portsmouth City, VA |
| Suffolk City, VA |
| Virginia Beach City VA |
| Williamsburg City, VA |
| York, VA |
5775 | Oakland, CA | 1.6044
| Alameda, CA |
| Contra Costa, CA |
5790 | Ocala, FL | 1.0245
| Marion, FL |
5800 | Odessa-Midland, TX | 0.9455
| Ector, TX |
| Midland, TX |
5880 | Oklahoma City, OK | 0.9150
| Canadian, OK |
| Cleveland, OK |
| Logan, OK |
| McClain, OK |
| Oklahoma, OK |
| Pottawatomie, OK |
5910 | Olympia, WA | 1.1648
| Thurston, WA |
5920 | Omaha, NE-IA | 1.1140
| Pottawattamie, IA |
| Cass, NE |
| Douglas, NE |
| Sarpy, NE |
| Washington, NE |
5945 | Orange County, CA | 1.2349
| Orange, CA |
5960 | Orlando, FL | 1.0437
| Lake, FL |
| Orange, FL |
| Osceola, FL |
| Seminole, FL |
5990 | Owensboro, KY | 0.8635
| Daviess, KY |
6015 | Panama City, FL | 0.9770
| Bay, FL |
6020 | Parkersburg-Marietta, WV-OH | 0.8896
| Washington, OH |
| Wood, WV |
6080 | Pensacola, FL | 0.8995
| Escambia, FL |
| Santa Rosa, FL |
6120 | Peoria-Pekin, IL | 0.8896
| Peoria, IL |
| Tazewell, IL |
| Woodford, IL |
6160 | Philadelphia, PA-NJ | 1.1891
| Burlington, NJ |
| Camden, NJ |
| Gloucester, NJ |
| Salem, NJ |
| Bucks, PA |
| Chester, PA |
| Delaware, PA |
| Montgomery, PA |
| Philadelphia, PA |
6200 | Phoenix-Mesa, AZ | 1.0084
| Maricopa, AZ |
| Pinal, AZ |
6240 | Pine Bluff, AR | 0.8202
| Jefferson, AR |
6280 | Pittsburgh, PA | 1.0265
| Allegheny, PA |
| Beaver,PA |
| Butler, PA |
| Fayette, PA |
| Washington, PA |
| Westmoreland, PA |
6323 | Pittsfield, MA | 1.0927
| Berkshire, MA |
6340 | Pocatello, ID | 0.9561
| Bannock, ID |
6360 | Ponce, PR | 0.5717
| Guayanilla, PR |
| Juana Diaz, PR |
| Penuelas, PR |
| Ponce, PR |
| Villalba, PR |
| Yauco, PR |
6403 | Portland, ME | 1.0096
| Cumberland, ME |
| Sagadahoc, ME |
| York, ME |
6440 | Portland-Vancouver, OR-WA | 1.1694
| Clackamas, OR |
| Columbia, OR |
| Multnomah, OR |
| Washington, OR |
| Yamhill, OR |
| Clark, WA |
6483 | Providence-Warwick-Pawtucket, RI | 1.1391
| Bristol, RI |
| Kent, RI |
| Newport, RI |
| Providence, RI |
| Washington, RI |
6520 | Provo-Orem, UT | 1.0461
| Utah, UT |
6560 | Pueblo, CO | 0.9433
| Pueblo, CO |
6580 | Punta Gorda, FL | 0.9509
| Charlotte, FL |
6600 | Racine, WI | 0.9820
| Racine, WI |
6640 | Raleigh-Durham-Chapel Hill, NC | 1.0170
| Chatham, NC |
| Durham, NC |
| Franklin, NC |
| Johnston, NC |
| Orange, NC |
| Wake, NC |
6660 | Rapid City, SD | 0.8911
| Pennington, SD |
6680 | Reading, PA | 1.0054
| Berks, PA |
6690 | Redding, CA | 1.2002
| Shasta, CA |
6720 | Reno, NV | 1.1353
| Washoe, NV |
6740 | Richland-Kennewick-Pasco, WA | 1.1959
| Benton, WA |
| Franklin, WA |
6760 | Richmond-Petersburg, VA | 1.0171
| Charles City County, VA |
| Chesterfield, VA |
| Colonial Heights City, VA |
| Dinwiddie, VA |
| Goochland, VA |
| Hanover, VA |
| Henrico, VA |
| Hopewell City, VA |
| New Kent, VA |
| Petersburg City, VA |
| Powhatan, VA |
| Prince George, VA |
| Richmond City, VA |
6780 | Riverside-San Bernardino, CA | 1.1945
| Riverside, CA |
| San Bernardino, CA |
6800 | Roanoke, VA | 0.8672
| Botetourt, VA |
| Roanoke, VA |
| Roanoke City, VA |
| Salem City, VA |
6820 | Rochester, MN | 1.2178
| Olmsted, MN |
6840 | Rochester, NY | 0.9786
| Genesee, NY |
| Livingston, NY |
| Monroe, NY |
| Ontario, NY |
| Orleans, NY |
| Wayne, NY |
6880 | Rockford, IL | 0.9359
| Boone, IL |
| Ogle, IL |
| Winnebago, IL |
6895 | Rocky Mount, NC | 0.9307
| Edgecombe, NC |
| Nash, NC |
6920 | Sacramento, CA | 1.3089
| El Dorado, CA |
| Placer, CA |
| Sacramento, CA |
6960 | Saginaw-Bay City-Midland, MI | 0.9895
| Bay, MI |
| Midland, MI |
| Saginaw, MI |
6980 | St. Cloud, MN | 1.0038
| Benton, MN |
| Stearns, MN |
7000 | St. Joseph, MO | 0.9529
| Andrew, MO |
| Buchanan, MO |
7040 | St. Louis, MO-IL | 0.9645
| Franklin, MO |
| Jefferson, MO |
| Lincoln, MO |
| St. Charles, MO |
| St. Louis, MO |
| St. Louis City, MO |
| Warren, MO |
| Clinton, IL |
| Jersey, IL |
| Madison, IL |
| Monroe, IL |
| St. Clair, IL |
7080 | Salem, OR | 1.0601
| Marion, OR |
| Polk, OR |
7120 | Salinas, CA | 1.5674
| Monterey, CA |
7160 | Salt Lake City-Ogden, UT | 1.0500
| Davis, UT |
| Salt Lake, UT |
| Weber, UT |
7200 | San Angelo, TX | 0.8359
| Tom Green, TX |
7240 | San Antonio, TX | 0.8862
| Bexar, TX |
| Comal, TX |
| Guadalupe, TX |
| Wilson, TX |
7320 | San Diego, CA | 1.2712
7360 | San Francisco, CA | 1.4918
| Marin, CA |
| San Francisco, CA |
| San Mateo, CA |
7400 | San Jose, CA | 1.4500
| Santa Clara, CA |
7440 | San Juan-Bayamon, PR | 0.5357
| Aguas Buenas, PR |
| Barceloneta, PR |
| Bayamon, PR |
| Canovanas, PR |
| Carolina, PR |
| Catano, PR |
| Ceiba, PR |
| Comerio, PR |
| Corozal, PR |
| Dorado, PR |
| Fajardo, PR |
| Florida, PR |
| Guaynabo, PR |
| Humacao, PR |
| Juncos, PR |
| Los Piedras, PR |
| Loiza, PR |
| Luguillo, PR |
| Manati, PR |
| Morovis, PR |
| Naguabo, PR |
| Naranjito, PR |
| Rio Grande, PR |
| San Juan, PR |
| Toa Alta, PR |
| Toa Baja, PR |
| Trujillo Alto, PR |
| Vega Alta, PR |
| Vega Baja, PR |
| Yabucoa, PR |
7460 | San Luis Obispo-Atascadero-Paso Robles, CA | 1.1156
| San Luis Obispo, CA |
7480 | Santa Barbara-Santa Maria-Lompoc, CA | 1.1528
| Santa Barbara, CA |
7485 | Santa Cruz-Watsonville, CA | 1.4840
| Santa Cruz, CA |
7490 | Santa Fe, NM | 1.1121
| Los Alamos, NM |
| Santa Fe, NM |
7500 | Santa Rosa, CA | 1.3852
| Sonoma, CA |
7510 | Sarasota-Bradenton, FL | 1.0554
| Manatee, FL |
| Sarasota, FL |
7520 | Savannah, GA | 1.0605
| Bryan, GA |
| Chatham, GA |
| Effingham, GA |
7560 | Scranton—Wilkes-Barre—Hazleton, PA | 0.8921
| Columbia, PA |
| Lackawanna, PA |
| Luzerne, PA |
| Wyoming, PA |
7600 | Seattle-Bellevue-Everett, WA | 1.2030
| Island, WA |
| King, WA |
| Snohomish, WA |
7610 | Sharon, PA | 0.8826
| Mercer, PA |
7620 | Sheboygan, WI | 0.8740
| Sheboygan, WI |
7640 | Sherman-Denison, TX | 0.9940
| Grayson, TX |
7680 | Shreveport-Bossier City, LA | 0.9642
| Bossier, LA |
| Caddo, LA |
| Webster, LA |
7720 | Sioux City, IA-NE | 0.9108
| Woodbury, IA |
| Dakota, NE |
7760 | Sioux Falls, SD | 0.9351
| Lincoln, SD |
| Minnehaha, SD |
7800 | South Bend, IN | 1.0435
| St. Joseph, IN |
7840 | Spokane, WA | 1.1507
| Spokane, WA |
7880 | Springfield, IL | 0.9252
| Menard, IL |
| Sangamon, IL |
7920 | Springfield, MO | 0.8515
| Christian, MO |
| Greene, MO |
| Webster, MO |
8003 | Springfield, MA | 1.1377
| Hampden, MA |
| Hampshire, MA |
8840 | Washington, DC-MD-VA-WV | 1.1778
| District of Columbia, DC |
| Calvert, MD |
| Charles, MD |
| Frederick, MD |
| Montgomery, MD |
| Prince Georges, MD |
| Alexandria City, VA |
| Arlington, VA |
| Clarke, VA |
| Culpeper, VA |
| Fairfax, VA |
| Fairfax City, VA |
| Falls Church City, VA |
| Fauquier, VA |
| Fredericksburg City, VA |
| King George, VA |
| Loudoun, VA |
| Manassas City, VA |
| Manassas Park City, VA |
| Prince William, VA |
| Spotsylvania, VA |
| Stafford, VA |
| Warren, VA |
| Berkeley, WV |
| Jefferson, WV |
8920 | Waterloo-Cedar Falls, IA | 0.9075
| Black Hawk, IA |
8940 | Wausau, WI | 1.0064
| Marathon, WI |
8960 | West Palm Beach-Boca Raton, FL | 1.0668
| Palm Beach, FL |
9000 | Wheeling, WV-OH | 0.8144
| Belmont, OH |
| Marshall, WV |
| Ohio, WV |
9040 | Wichita, KS | 1.0038
| Butler, KS |
| Harvey, KS |
| Sedgwick, KS |
9080 | Wichita Falls, TX | 0.8154
| Archer, TX |
| Wichita, TX |
8050 | State College, PA | 0.9737
| Centre, PA |
8080 | Steubenville-Weirton, OH-WV | 0.9179
| Jefferson, OH |
| Brooke, WV |
| Hancock, WV |
8120 | Stockton-Lodi, CA | 1.1207
| San Joaquin, CA |
8140 | Sumter, SC | 0.8778
| Sumter, SC |
8160 | Syracuse, NY | 1.1377
| Cayuga, NY |
| Madison, NY |
| Onondaga, NY |
| Oswego, NY |
8200 | Tacoma, WA | 1.2230
| Pierce, WA |
8240 | Tallahassee, FL | 0.9040
| Gadsden, FL |
| Leon, FL |
8280 | Tampa-St. Petersburg-Clearwater, FL | 0.9637
| Hernando, FL |
| Hillsborough, FL |
| Pasco, FL |
| Pinellas, FL |
8320 | Terre Haute, IN | 0.9132
| Clay, IN |
| Vermillion, IN |
| Vigo, IN |
8360 | Texarkana, AR-Texarkana, TX | 0.8668
| Miller, AR |
| Bowie, TX |
8400 | Toledo, OH | 1.0458
| Fulton, OH |
| Lucas, OH |
| Wood, OH |
8440 | Topeka, KS | 0.9937
| Shawnee, KS |
8480 | Trenton, NJ | 1.0764
| Mercer, NJ |
8520 | Tucson, AZ | 0.9315
| Pima, AZ |
8560 | Tulsa, OK | 0.8616
| Creek, OK |
| Osage, OK |
| Rogers, OK |
| Tulsa, OK |
| Wagoner, OK
8600 | Tuscaloosa, AL | 0.8593
| Tuscaloosa, AL |
8640 | Tyler, TX | 0.9983
| Smith |
8680 | Utica-Rome, NY | 0.8842
| Herkimer, NY |
| Oneida, NY |
8720 | Vallejo-Fairfield-Napa, CA | 1.4220
| Napa, CA |
| Solano, CA |
8735 | Ventura, CA | 1.2206
8750 | Victoria, TX | 0.8927
8760 | Vineland-Millville-Bridgeton, NJ | 1.1206
| Cumberland, NJ |
8780 | Visalia-Turlare-Porterville, CA | 1.1093
| Tulare, CA |
8800 | Waco, TX | 0.8604
| McLennan, TX |
9140 | Williamsport, PA | 0.9003
| Lycoming, PA |
9160 | Wilmington-Newark, DE-MD | 1.2013
| New Castle, DE |
| Cecil, MD |
9200 | Wilmington, NC | 1.0343
| Brunswick, NC |
| New Hanover, NC |
9260 | Yakima, WA | 1.1009
| Yakima, WA |
9270 | Yolo, CA | 1.0356
| Yolo, CA |
9280 | York, PA | 0.9919
| York, PA |
9320 | Youngstown-Warren, OH | 1.0651
| Columbiana, OH |
| Mahoning, OH |
| Trumbull, OH |
9340 | Yuba City, CA | 1.1361
| Sutter, CA |
| Yuba, CA |
9360 | Yuma, AZ | 1.0574
| Yuma, AZ |
¹ This column lists each MSA area name (in italics) and each county, or county equivalent, in the MSA area. Counties not listed in this Table are considered to be Rural Areas. Wage Index values for these areas are found in Table B.
² Wage index values are based on FY 1996 hospital cost report data before reclassification. This wage index is further adjusted. Wage index values greater than 0.8 are subject to a budget-neutrality adjustment of 1.065425. Wage index values below 0.8 are adjusted to be the greater of a 15-percent increase, subject to a maximum wage index value of 0.8, or an adjustment by multiplying the hospital wage index value for a given area by the budget-neutrality adjustment. We have completed all of these adjustments and included them in the wage index values reflected in this table.

Table B.—Wage Index for Rural Areas
MSA code No. | Nonurban area | Wage index ¹
9901 | Alabama | 0.8000
9902 | Alaska | 1.2847
9903 | Arizona | 0.9104
9904 | Arkansas | 0.8000
9905 | California | 1.0603
9906 | Colorado | 0.9391
9907 | Connecticut | 1.3226
9908 | Delaware | 0.9767
9910 | Florida | 0.9575
9911 | Georgia | 0.8625
9912 | Hawaii | 1.1430
9913 | Idaho | 0.9218
9914 | Illinois | 0.8575
9915 | Indiana | 0.8946
9916 | Iowa | 0.8446
9917 | Kansas | 0.8000
9918 | Kentucky | 0.8569
9919 | Louisiana | 0.8000
9920 | Maine | 0.9205
9921 | Maryland | 0.9197
9922 | Massachusetts | 1.2114
9923 | Michigan | 0.9392
9924 | Minnesota | 0.9237
9925 | Mississippi | 0.8000
9926 | Missouri | 0.8229
9927 | Montana | 0.8945
9928 | Nebraska | 0.8532
9929 | Nevada | 0.9693
9930 | New Hampshire | 1.0554
9931 | New Jersey ² |
9932 | New Mexico | 0.8927
9933 | New York | 0.9202
9934 | North Carolina | 0.8832
9935 | North Dakota | 0.8148
9936 | Ohio | 0.9216
9937 | Oklahoma | 0.8000
9938 | Oregon | 1.0514
9939 | Pennsylvania | 0.9083
9940 | Puerto Rico | 0.4886
9941 | Rhode Island ² |
9942 | South Carolina | 0.8805
9943 | South Dakota | 0.8073
9944 | Tennessee | 0.8152
9945 | Texas | 0.8000
9946 | Utah | 0.9490
9947 | Vermont | 1.0024
9948 | Virgin Islands | 0.7252
9949 | Virginia | 0.8421
9950 | Washington | 1.1131
9951 | West Virginia | 0.8597
9952 | Wisconsin | 0.9333
9953 | Wyoming | 0.9440
9965 | Guam | 1.0240
¹ Wage index values are based on FY 1996 hospital cost report data before reclassification. This wage index is further adjusted. Wage index values greater than 0.8 are subject to a budget-neutrality adjustment of 1.065425. Wage index values below 0.8 are adjusted to be the greater of a 15-percent increase, subject to a maximum wage index value of 0.8, or an adjustment by multiplying the hospital wage index value for a given area by the budget-neutrality adjustment. We have completed all of these adjustments and have included them in the wage index values reflected in this table.
² All counties within the State are classified as urban.

II. Regulatory Impact Statement

We have examined the impacts of this notice as required by Executive Order 12866, the Unfunded Mandate Reform Act, and the Regulatory Flexibility Act (RFA) (Pub. L. 96-354). In this notice, we identified an impact on hospices as a result of changes in the way we compute the hospice wage index. The change in the methodology for computing the wage index was determined through a negotiated rulemaking committee and implemented in the August 8, 1997 final rule (62 FR 42860). We recognize that the BBRA adjusted hospice payments upward by 0.5 percent; however, we did not do a separate analysis of the impact of this payment adjustment. We used the new rates adjusted by the BBRA when estimating the payments to be made under the new wage index and when calculating the budget-neutrality adjustment factor. Overall, we believe the changes included in this notice to be insignificant.

1. Executive Order 12866 and RFA

Executive Order 12866 directs agencies to assess all costs and benefits of available regulatory alternatives and, when regulation is necessary, to select regulatory approaches that maximize net benefits (including potential economic, environmental, public health and safety effects; distributive impacts; and equity). We have determined that this notice is not an economically significant rule under this Executive Order. The RFA requires agencies to analyze options for regulatory relief for small businesses. For purposes of the RFA, States and individuals are not considered small entities. However, most providers, physicians, and health care suppliers are small entities, either by nonprofit status or by having revenues of $5 million or less annually. Approximately 73 percent of Medicare certified hospices are identified as voluntary, government, or other agencies, and, therefore, are considered small entities. Because the National Hospice Organization estimates that approximately 70 percent of hospice patients are Medicare beneficiaries, we have not considered other sources of revenue in this analysis.

As discussed below, the estimated decreases in payment to hospices overall are very slight. The most significant change is an increase in estimated payments to rural areas in East and West South Central, at 4.8 and 9.1 percent, respectively. The effects of this notice on West South Central alone, indicate that 54 of the 85 hospices in urban West South Central can be considered small entities that will experience an 9.1-percent increase in Medicare payments. Therefore, we anticipate this notice will have a significant, albeit positive, impact on a substantial number of small entities. However, the methodology for the hospice wage index was previously determined by consensus through a negotiated rulemaking committee that included representatives of national hospice associations; rural, urban, large and small hospices; multi-site hospices; and consumer groups. Based on the options considered, the committee determined that the methodology described in the committee statement, and adopted into regulation in the August 8, 1997 final rule, was favorable for the hospice community as well as for beneficiaries. Therefore, we believe that mitigating any negative effects on small entities has been taken into consideration.

2. Congressional Review

Section 804(2) of Title 5, United States Code (U.S.C.) (as added by section 251 of Pub. L. 104-121), specifies that a “major rule” is any rule that the Office of Management and Budget finds is likely to result in—

• An annual effect on the economy of $100 million or more;

• A major increase in costs or prices for consumers, individual industries, Federal, State, or local government agencies, or geographic regions; or

• Significant adverse effects on competition, employment, investment, productivity, innovation, or on the ability of United States-based enterprises to compete with foreign-based enterprises in domestic and export markets.

We estimate that the impact of this notice will not be $100 million or more; therefore, this notice is not a major rule as defined in Title 5, United States Code, section 804(2) and is not being forwarded to the Congress for a 60-day review period.

3. Unfunded Mandate

The Unfunded Mandate Reform Act of 1995 also requires (in section 202) that agencies prepare an assessment of anticipated costs and benefits for any rule that may result in an expenditure by State, local, and tribal governments, in the aggregate, or by the private sector, of $100 million or more in any one year. The notice has no consequential effect on State, local, or tribal governments. We believe the private sector costs of this notice fall below the threshold as well.

4. Rural Hospital Impact

Section 1102(b) of the Act requires us to prepare a regulatory impact analysis for any notice that may have a significant impact on the operations of a substantial number of small rural hospitals. Such an analysis must conform to the provisions of section 604 of the RFA. For purposes of section 1102(b) of the Act, we define a small rural hospital as a hospital that is located outside an MSA and has fewer than 50 beds.

Because this notice has no direct impact on small hospitals, in accordance with 5 U.S.C. 604, the Secretary certifies that this notice will not have a significant impact on the operations of a substantial number of small rural hospitals.

5. Federalism

We have reviewed this notice under the threshold criteria of Executive Order 13132, Federalism, and have determined that this notice will not have any negative impact on the rights, roles, and responsibilities of State, local, or tribal governments.

A. Anticipated Effects

We have compared estimated payments using the FY 1983 hospice wage index to estimated payments using the FY 2001 wage index and determined the current hospice rates to be budget-neutral. As mentioned above, the negotiated rulemaking committee agreement required that we not pay more under the new wage index in the aggregate than we would have paid under the original wage index.

This impact analysis compares hospice payments under the FY 2000 hospice wage index to the estimated payments using the FY 2001 wage index. The data used in developing the quantitative analysis for this notice were obtained from the March 2000 update of the national claims history file of all bills submitted during FY 1999. We deleted bills from hospices that have since closed.

Table C demonstrates the results of our analysis. In Column 2 of Table C, we indicate the number of routine home care days that were included in our analysis, although the analysis was performed on all types of hospice care. Column 3 of Table C indicates payments that were made using the FY 2000 wage index. Column 4 of Table C is based on FY 1999 claims and estimates payments to be made to hospices using the FY 2001 wage index. The final column, which compares Columns 3 and 4, shows the percent change in estimated hospice payments made based on the category of the hospice.

Table C categorizes hospices by various geographic and provider characteristics. The first row displays the results of the impact analysis for all Medicare certified hospices. The second and third rows of the table categorize hospices according to their geographic location (urban and rural). Our analysis indicated that there are 1,351 hospices located in urban areas and 798 hospices located in rural areas. The next two groupings in the table indicate the number of hospices by census region, also broken down by urban and rural hospices. The sixth grouping shows the impact on hospices based on the size of the hospice's program. We determined that the majority of hospice payments are made at the routine home care rate. Therefore, we based the size of each individual hospice's program on the number of routine home care days provided in 1999. The next grouping shows the impact on hospices by type of ownership. The final grouping shows the impact on hospices defined by whether they are provider-based or freestanding.

The results of our analysis shows that the greatest increases in payment are for rural areas in the West and East South Central Regions, with a 9.1 percent and 4.8 percent increase, respectively. The greatest decreases in payment are for urban areas in the New England and Mountain regions, each with a 0.4 percent decrease, and for rural areas in the Middle Atlantic and Pacific regions, each with a 0.4 percent decrease.

The breakdown by size, type of ownership, and facility base showed an increase in payments to all hospice programs. Small hospice programs showed significant increases of about 10 percent, while larger programs experienced only a negligible increase. Government-owned hospices showed the greatest estimated increase of 2.7 percent, while payments to voluntary hospices are expected to increase by 0.4 percent. In terms of hospice base, freestanding hospices showed the greatest estimated payment increase while home health agencies showed the smallest amount of payment increase.

Table C.—Impact of Hospice Wage Index Change
| Number of hospices (1) | Number of routine home care days in thousands (2) | Payments using FY 2000 wage index in thousands (3) | Estimated payments using FY 2001 wage index in thousands (4) | Percent change in Hospice payments (5)
(By geographic location):
All Hospices | 2,149 | 21,354 | 2,490,702 | 2,504,439 | 0.6
Urban Hospices | 1,351 | 18,120 | 2,185,780 | 2,190,590 | 0.2
Rural Hospices | 798 | 3,234 | 304,922 | 313,849 | 2.9
By Region—Urban:
New England | 94 | 642 | 89,447 | 89,051 | −0.4
Middle Atlantic | 170 | 2,245 | 290,927 | 291,894 | 0.3
South Atlantic | 185 | 4,030 | 509,079 | 511,583 | 0.5
East North Central | 224 | 2,862 | 334,861 | 336,694 | 0.5
East South Central | 94 | 1,169 | 123,023 | 123,530 | 0.4
West North Central | 96 | 1,061 | 113,167 | 113,498 | 0.3
West South Central | 188 | 2,408 | 261,632 | 261,287 | −0.1
Mountain | 88 | 1,135 | 149,035 | 148,443 | −0.4
Pacific | 183 | 2,325 | 298,138 | 298,086 | 0
Puerto Rico | 29 | 243 | 16,470 | 16,524 | 0.3
By Region—Rural:
New England | 26 | 72 | 7,666 | 7,811 | 1.9
Middle Atlantic | 35 | 168 | 17,282 | 17,214 | −0.4
South Atlantic | 117 | 681 | 63,904 | 65,005 | 1.7
East North Central | 136 | 561 | 53,801 | 54,541 | 1.4
East South Central | 81 | 524 | 48,159 | 50,481 | 4.8
West North Central | 174 | 409 | 37,622 | 38,969 | 3.6
West South Central | 85 | 362 | 29.640 | 32.351 | 9.1
Mountain | 87 | 217 | 21.359 | 22,048 | 3.2
Pacific | 54 | 217 | 24,012 | 23,922 | −0.4
Puerto Rico | 3 | 23 | 1,476 | 1,507 | 2.1
(Skilled)
Routine home care days:
0-1,754 days | 437 | 390 | 36,700 | 40,609 | 10.6
1,754-4,373 days | 502 | 1,504 | 150,829 | 154,399 | 2.4
4,373-9,681 days | 556 | 3,669 | 388,427 | 390,269 | 0.5
9,681 + days | 653 | 15,449 | 1,875,339 | 1,879,969 | 0.2
Type of ownership:
Voluntary | 1,351 | 13,975 | 1,638,339 | 1,644,677 | 0.4
Proprietary | 573 | 6,714 | 784,488 | 790,194 | 0.7
Government | 192 | 568 | 58,174 | 59,770 | 2.7
Other | 33 | 97 | 9,701 | 9,797 | 1.0
Hospice base:
Freestanding | 874 | 12,368 | 1,451,898 | 1,461,421 | 0.7
Home health agency | 716 | 5,357 | 625,165 | 627,440 | 0.4
Hospital | 538 | 3,503 | 395,997 | 397,830 | 0.5
Skilled nursing facility | 21 | 126 | 17,642 | 17,748 | 0.6

In accordance with the provisions of Executive Order 12866, this regulation was reviewed by the Office of Management and Budget.

Authority: Section 1814(i) of the Social Security Act (42 U.S.C. 1395f (i)(1)).

(Catalog of Federal Domestic Assistance Program No. 93.773 Medicare—Hospital Insurance Program; and No. 93.774, Medicare—Supplementary Medical Insurance Program)
Dated: August 21, 2000.
Nancy-Ann Min DeParle,
Administrator, Health Care Financing Administration.
Dated: September 22, 2000.
Donna E. Shalala,
Secretary.

[FR Doc. 00-25547 Filed 10-2-00; 12:23 pm]

BILLING CODE 4120-01-P